DEPARTMENT OF THE INTERIOR

National Park Service

General Management Plan, Record of Decision, Saguaro National Park, Arizona

AGENCY: National Park Service, Department of the Interior.

ACTION: Notice of Availability of a Record of Decision on the Final Environmental Impact Statement I General Management Plan, Saguaro National Park.

SUMMARY: Pursuant to the National Environmental Policy Act of 1969, 42 U.S.C. 4332(2)(C), the National Park Service announces the availability of the Record of Decision (ROD) for the General Management Plan, Saguaro National Park, Arizona. On April 2, 2008, the Regional Director, Intermountain Region approved the Record of Decision. As soon as practicable after March 31, 2008, on which the 30-day waiting period ends, the National Park Service will start implementing the selected action as in the FEIS issued on February 29, 2008, the date the FETS was published in the Environmental Protection Agency's Federal Register notice (Volume 73, Number 41, Page 11112). The ROD explains that alternative 2 is the selected action over no-action and the other action alternative. To reduce habitat fragmentation, the selected action emphasizes ecological processes and biological diversity by creating and preserving wildlife movement corridors among isolated habitats, while still providing a range of visitor opportunities. The selected action includes a parkwide management zone for the preservation of cultural resources. The no-action alternative would mean no change from existing conditions. The other action alternative would mean some but less emphasis on wildlife movement corridors among isolated habitats to address habitat fragmentation, and more visitor opportunities. The selected action calls for road, trail, and visitor center improvements as well as monitoring for certain natural and cultural resources and vehicular traffic patterns for preservation and safety, respectively.

The Record of Decision includes a statement of the decision made, synopses of the other alternatives considered, the basis for the decision, a description of the environmentally preferable alternative, and findings of no unacceptable impacts and no impairment to park resources and values. There is a listing of measures to minimize environmental harm, and an overview of public involvement in the decision-making process.

FOR FURTHER INFORMATION CONTACT: Superintendent Sarah Craighead, Saguaro National Park, 3693 South Old Spanish Trail, Tucson, AZ 85730-5601, sarah_craighead@nps.gov, 520-733-5101.

SUPPLEMENTARY INFORMATION: Copies of the Record of Decision may be obtained from the above contact or online at http://parkplanning.nps.gov/sagu.

Dated: April 2, 2008.
Michael D. Snyder,
Regional Director, Intermountain Region, National Park Service.

[FR Doc. E8-12835 Filed 6-10-08; 8:45 am]

BILLING CODE 4310-08-M